DEPARTMENT OF DEFENSE

Department of the Navy

Notice of Intent To Grant Exclusive Patent License; Enhanced Energy Group, LLC

AGENCY: Department of the Navy, DoD.

ACTION: Notice.

SUMMARY: The Department of the Navy hereby gives notice of its intent to grant a revocable, nonassignable exclusive license to Enhanced Energy Group, LLC. The proposed license is an exclusive license to practice several inventions throughout the United States, the District of Columbia, the Commonwealth of Puerto Rico, and all other United States territories and possessions. The Secretary of the Navy has an ownership interest in these inventions, and they are covered by U.S. Patent No. 7,926,275: Closed Brayton Cycle Direct Contact Reactor/Storage Tank With Chemical Scrubber.//U.S. Patent No. 7,926,276: Closed Cycle Brayton Propulsion System With Direct Heat Transfer.//U.S. Patent No. 7,937,930: Semiclosed Brayton Cycle Power System With Direct Heat Transfer.//U.S. Patent No. 7,951,339: Closed Brayton Cycle Direct Contact Reactor/Storage Tank With O2 Afterburner.//U.S. Patent App. Ser. No. 07/926115: Semi-Closed Brayton Cycle Power System Direct Combustion Heat Transfer.

DATES: Anyone wishing to object to the grant of this license must file written objections along with supporting evidence, if any, not later than October 11, 2011.

ADDRESSES: Written objections are to be filed with the Naval Undersea Warfare Center Division, Newport, 1176 Howell St., Bldg 990, Code 07TP, Newport, RI 02841.

FOR FURTHER INFORMATION CONTACT: Dr. Theresa A. Baus, Head, Technology Partnerships Office, Naval Undersea Warfare Center Division, Newport, 1176 Howell St., Bldg. 990, Code 07TP, Newport, RI 02841, telephone 401-832-8728, or e-mail heresa.baus@navy.mil.

Authority: 35 U.S.C. 207, 37 CFR part 404.

Dated: September 19, 2011.
J.M. Beal,
Lieutenant Commander, Office of the Judge Advocate General, U.S. Navy, Federal Register Liaison Officer.

[FR Doc. 2011-24695 Filed 9-23-11; 8:45 am]

BILLING CODE 3810-FF-P